DEPARTMENT OF DEFENSE

Office of the Secretary

[Docket ID: DOD-2025-OS-0476]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by January 15, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Application for the Review of Discharge from the Armed Forces of the United States; DD Form 293; OMB 0704-0004.

Type of Request: Revision.

Number of Respondents: 4,835.

Responses per Respondent: 1.

Annual Responses: 4,835.

Average Burden per Response: 30 minutes.

Annual Burden Hours: 2,418.

Frequency: On occasion.

Needs and Uses: Under Title 10 United States Code section 1553 and DoD Directive 1332.41, “Boards for the Correction of Military Records and Discharge Review Board (DRBs),” former service members who received an administrative discharge have the right to appeal the characterization or reason for separation provided they do so within 15 years from the date of separation. The DD Form 293, “Application for Review of Discharge or Separation from the Armed Forces of the United States,” is the form that allows former Service members to explain the reasons for the alleged inequity or impropriety, designate counsel of choice, and select the method of hearing desired.

The request is initiated by the Respondent; therefore, there is no preemptory request or invitation sent to the Respondent associated with the information collection. The completed DD Form 293 is filed either online through email, through a secure portal, or submitted via mail by the Respondent. The form is formatted in both electronic and paper format with text or hand-written fillable entries. The information collected is needed to provide the DRBs the basic data to process and act on the Respondent's request.

Affected Public: Individuals or households.

Frequency: On occasion.

Respondent's Obligation: Voluntary.

DOD Clearance Officer: Mr. Reginald Lucas.

Dated: December 12, 2025.
Stephanie J. Bost,
Alternate OSD Federal Register Liaison Officer, Department of Defense.

[FR Doc. 2025-22977 Filed 12-15-25; 8:45 am]

BILLING CODE 6001-FR-P